DEPARTMENT OF LABOR

Mine Safety and Health Administration

Brookwood-Sago Mine Safety Grants

AGENCY: Mine Safety and Health Administration, Labor.

ACTION: Notice of funding and priorities for fiscal year 2009.

SUMMARY: The U.S. Department of Labor, Mine Safety and Health Administration (MSHA), is making $500,000 available in grant funds in FY 2009 for educational and training programs to help identify, avoid, and prevent unsafe working conditions in and around mines. The focus of these grants for FY 2009 will be on training and training materials for mine emergency preparedness and haulage safety for mines. MSHA is expanding this grant opportunity to cover all mines, both surface and underground metal and nonmetal and coal mines. Applicants for the grants may be States and nonprofit (private or public) entities. MSHA could award as many as 10 separate grants with a 12-month period of performance. The amount of each individual grant will be at least $50,000.00. MSHA provides background information on these grants at http://www.msha.gov. MSHA will post the actual solicitation for grant applications (SGA) at http://www.grants.gov. Applications should not be submitted at this time.

DATES: MSHA expects to post its SGA by June 30, 2009, on http://www.grants.gov and the closing date for applications will be July 31, 2009. MSHA will award grants on or before September 30, 2009.

FOR FURTHER INFORMATION CONTACT: Robert Glatter at Glatter.Robert@dol.gov, at 202-693-9570 (voice), or 202-693-9571 (facsimile). These are not toll-free numbers.

SUPPLEMENTARY INFORMATION:

1. Funding Opportunity Description

A. Overview of the Brookwood-Sago Mine Safety Grant Program

Responding to several coal mine disasters, Congress enacted the Mine Improvement and New Emergency Response Act of 2006 (MINER Act). Section 14 of the MINER Act requires the Secretary of Labor (Secretary) to establish a discretionary competitive grant program called the Brookwood-Sago Mine Safety Grants (Brookwood-Sago grants). This program provides funding to educate and train miners to better identify, avoid, and prevent unsafe working conditions in and around mines. This program will use grant funds to establish and implement education and training programs or to create training materials and programs. The MINER Act requires the Secretary to give priority to mine safety demonstrations and pilot projects with broad applicability. It also mandates that the Secretary shall emphasize programs and materials that target workers in smaller mines, to include training on new MSHA standards, high-risk activities, and other identified health and safety priorities.

B. Educational and Training Program Priorities

MSHA priorities for the FY 2009 funding of the Brookwood-Sago grants will focus on training and training materials for mine emergency preparedness and haulage safety. MSHA is expanding this grant opportunity to cover all mines, surface and underground metal and nonmetal and coal mines. MSHA expects Brookwood-Sago grantees to develop training materials or to develop and provide mine safety and health training and/or educational programs, recruit miners and mine operators for the training, and conduct and evaluate the training on one of the MSHA-selected priorities. Grantees are also required to conduct follow-up evaluations of persons trained under the grantee's program. If the Brookwood-Sago applicant is not the entity operating an MSHA-approved State training grant, MSHA expects the applicant to contact the State grantee(s) and coordinate any proposed training or educational program with the applicable State(s) in order not to duplicate any training or educational program offered. An applicant's proposed area for the grant may cover more than one State.

II. Award Information

A. Award Amount for FY 2009

MSHA is providing $500,000 total for the FY 2009 Brookwood-Sago grants, which could be divided into as many as 10 separate grants. The amount of each individual grant will be at least $50,000.00.

B. Period of Performance

The period of performance will be 12 months from the date of execution of the grant documents. This performance period must include all necessary implementation and start-up activities as well as follow-up for the grantee to provide information on how it met the Brookwood-Sago grant performance outcomes. MSHA may approve a request for a no-cost extension to grantees for an additional period of time based on the success of the project and other relevant factors.

III. Eligibility Information

Applicants for the grants may be States and nonprofit (private or public) entities. Eligible entities may apply for funding independently or in partnership with other eligible organizations. For partnerships, a lead organization must be identified.

IV. Other Program Provisions

The following are selected provisions for interested parties considering applying for the Brookwood-Sago grants:

A. Educational Materials

MSHA will review all grantee-produced educational and training materials for technical accuracy and suitability of content during development and before final publication.

When grantees produce training materials, they must provide copies of completed materials to MSHA in hard copy and a digital format (CD-ROM/DVD) for posting on the Agency's internet. All grantees must acknowledge the Department of Labor (DOL) funding with a standard statement, which will be provided in the SGA.

B. Matching and Cost-Sharing

Matching and cost-sharing funds are not required in this grant program. The leveraging of public and private resources to achieve project sustainability, however, is highly encouraged and will be awarded points in the evaluation criteria. Any funds leveraged must be from non-Federal resources. Applicants must include a description of any non-Federal resource contribution, including the source of funds and the estimated amount.

C. Administrative and National Policy Requirements

All grantees, including faith-based organizations, will be subject to applicable Federal laws and regulations (including provisions of appropriations law) and applicable Office of Management and Budget (OMB) Circulars. The grants awarded under this competitive grant program will be subject to the following administrative standards and provisions, if applicable:

• 29 CFR part 2, subpart D, Equal Treatment for Religious Organizations.

• 29 CFR parts 31, 32, 35 and 36, Nondiscrimination.

• 29 CFR part 93, Restrictions on Lobbying.

• 29 CFR part 94, Drug-free workplace.

• 29 CFR part 95, Uniform Grant Requirements for Nonprofit organizations.

• 29 CFR parts 96 and 99, Audits.

• 29 CFR part 97, Uniform Grant Requirements for States.

• 29 CFR part 98, Debarment and suspension.

• 2 CFR part 220, Cost Principles for Educational Institutions.

• 2 CFR part 225, Cost Principles for State and Local Governments.

• 2 CFR part 230, Cost Principles for Other Nonprofit Organizations.

Administrative costs for these grants may not exceed 15%.

V. Overview of the Grant Process

Below is a general synopsis of MSHA's competitive grant process.

A. Pre-Award Process

MSHA will post the SGA at http://www.grants.gov and http://www.msha.gov providing detailed information about how to apply for MSHA's grant program. For this Brookwood-Sago grant, applicants will be given 30 days to apply. The SGA will provide a description of the projects, proposed scope of work and performance periods, eligibility requirements and the dollar amounts of the awards, and the estimated number of grants to be awarded. The SGA also will describe what is required in the grant application, the closing date for receipt of the applications, any special reporting requirements, and the rating criteria that will be used in reviewing grant applications. The SGA will provide all of the necessary information for interested parties to participate in this competitive grant process.

B. Award

Grant applications submitted in response to the SGA will be reviewed by a technical panel for consistency with the SGA requirements. Awards are subject to availability of funds and evaluation of the applicant's technical proposal. Funding decisions are made at the discretion of the Assistant Secretary of Labor for Mine Safety and Health.

A technical panel will advise the Grant Officer during the review and rating process. Panel members will be selected based on their knowledge of the subject matter. Each panel member will perform an independent evaluation of the application based solely upon the criteria announced in the SGA.

After the review, the Grant Officer may ask an applicant to provide supplemental information that may be necessary to clarify issues within the application. Negotiations are not a guarantee of funding.

Once selections are made, awardees are notified. If the applicant accepts the terms and conditions outlined in the award package, the Grant Officer will execute the grant award and funds will be allocated.

C. Post-Award Process

MSHA anticipates that it will meet with all successful applicants before the grants are started. MSHA will provide this meeting information in the award package.

The selected applicant must submit financial and activity reports on a quarterly basis, beginning ninety days from the award of the grant. MSHA will work with the grantee to establish report contents, which, among other things, will include performance measures to encourage continuous improvement. The report must be submitted within 30 days after the close of the quarter.

D. Completion of the Grant

After completion of the grant, the grantee must complete a Final Project Report, which will include an assessment of project performance and outcomes achieved. MSHA also will arrange for an independent evaluation of each funded project. All grantees must agree to cooperate with this evaluation and must make records available for all project activities.

VI. Special Procedures for Applying

MSHA will be accepting grant applications through the Grants.gov Web site only. A downloadable application package for the Brookwood-Sago grant program will be available through this Web site.

In order for interested parties to participate, they must have a Dun and Bradstreet number (DUNS) and must register with the Grants.gov Web site.

A. Dun and Bradstreet Number

Since October 1, 2003, all applicants for Federal grant funding opportunities are required to include a DUNS number with their application. The DUNS number is a nine-digit identification number that identifies business entities uniquely. There is no charge for obtaining a DUNS number. To obtain a DUNS number, call 1-866-705-5711 or access the following Web site: http://dnb.com/us/.

B. Grants.gov Site Registration

Applicants must register on the Grants.gov Web site at http://www.grants.gov/applicants/get_registered.isp. Details regarding registration are outlined in the Grants.gov 3-Step Registration Guide at http://www.grants.gov/section910/Grants.govRegistrationBrochure.pdf.

Please note that the registration process may take three to five business days to complete, and an interested party must have completed all registration steps to submit an application via Grants.gov.

Authority: 30 U.S.C. 965.

Michael A. Davis,
Deputy Assistant Secretary for Operations, Mine Safety and Health.

[FR Doc. E9-15258 Filed 6-26-09; 8:45 am]

BILLING CODE 4510-43-P